ENVIRONMENTAL PROTECTION AGENCY

[ER-FRL-9023-4]

Environmental Impact Statements; Notice of Availability

Responsible Agency: Office of Federal, Activities, General Information (202) 564-7146 or http://www2.epa.gov/nepa.

Weekly receipt of Environmental Impact Statements (EISs)

Filed 09/28/2015 Through 10/02/2015

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20150284, Draft, NPS, CA, Scorpion Pier Replacement, Comment Period Ends: 12/18/2015, Contact: Karl Bachman 805-658-5700.

EIS No. 20150285, Final, FERC, OR, Jordan Cove Energy and Pacific Connector Gas Pipeline Project, Review Period Ends: 11/08/2015, Contact: Paul Friedman 202-502-8059.

EIS No. 20150286, Draft, FERC, ID, Bear River Narrows Hydroelectric Project-FERC Project 12486-008, Comment Period Ends: 11/30/2015, Contact: Shana Murray 202-502-8333.

EIS No. 20150287, Draft, NGA, MO, Next NGA West Campus in the Greater St. Louis Metropolitan Area, Comment Period Ends: 11/23/2015, Contact: David Berczek (NGA) 314-676-1123 and Amy Blair (COE) 816-389-3393.

EIS No. 20150288, Draft, USACE, NE., Nebraska Highway 12 Niobrara East and West, Comment Period Ends: 11/23/2015, Contact: Rebecca J. Latka 402-995-2681.

Amended Notices

EIS No. 20150207, Draft, DOE, NH, Northern Pass Transmission Line Project, Comment Period Ends: 12/31/2015, Contact: Brian Mills 202-586-8267 Revision to FR Notice Published 07/24/2015; Extending Comment Period from 10/29/2015 to 12/31/20115.

EIS No. 20150264, Final, FHWA, TN, Pellissippi Parkway Extension (State Route 162) from State Route 33 (Old Knoxville Highway) to US 321/State Route 73/Lamar Alexander Parkway, Review Period Ends: 11/18/2015, Contact: Theresa Claxton 615-781-5770. Revision to FR Notice Published: 09/18/2015; Extending Comment Period from 10/19/2015 to 11/18/2015.

EIS No. 20150278, Draft, USACE, GA, Update of the Water Control Manual for the Apalachicola-Chattahoochee-Flint River Basin in Alabama, Florida, and Georgia and Water Supply Storage Assessment, Comment Period Ends: 12/01/2015, Contact: Lewis C. Sumner 251-694-3857. Revision to FR Notice Published 10/02/2015; Correction to EIS Status should read 'Draft' and Correcting the Comment Period from 11/16/2015 to 12/1/2015.

Dated: October 6, 2015.
Karin Leff,
Acting Director, NEPA Compliance Division, Office of Federal Activities.

[FR Doc. 2015-25795 Filed 10-8-15; 8:45 am]

BILLING CODE 6560-50-P